DEPARTMENT OF COMMERCE

National Oceanic and Atmospheric Administration

[RTID 0648-XB523]

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (Council) will convene a meeting of the Outreach and Communications Advisory Panel via webinar to address upcoming outreach and communications topics.

DATES: The Outreach and Communications Advisory Panel (AP) meeting will be held via webinar November 18, 2021, from 1 p.m. until 5 p.m. and November 19, 2021, from 8:30 a.m. until 12 p.m.

ADDRESSES:

Meeting address: The meeting will be held via webinar. The webinar is open to members of the public. Information, including a link to webinar registration, public comment form, and meeting materials will be posted on the Council's website at: https://safmc.net/safmc-meetings/current-advisory-panel-meetings/ as it becomes available.

Council address: South Atlantic Fishery Management Council, 4055 Faber Place Drive, Suite 201, N Charleston, SC 29405.

FOR FURTHER INFORMATION CONTACT: Cameron Rhodes, Outreach Program Manager, South Atlantic Fishery Management Council; phone: (843) 725-7577 or toll free: (866) SAFMC-10; fax: (843) 769-4520; email: cameron.rhodes@safmc.net.

SUPPLEMENTARY INFORMATION: The Outreach and Communications AP will meet to discuss the following agenda items: Social media policies; preliminary review of the new SAFMC website; outreach and communication needs relative to red snapper management issues; and building relationships with tackle shops. AP members will receive updates on the status of a Sea Grant fellowship, the Council's Citizen Science Program, and a draft Outreach and Communications Strategy for the Council's Habitat Blueprint. AP members will provide individual updates on outreach and communication efforts as appropriate.

Special Accommodations

The meeting is are physically accessible to people with disabilities. Requests for auxiliary aids should be directed to the Council office (see ADDRESSES) 5 days prior to the meeting.

Note: The times and sequence specified in this agenda are subject to change.

(Authority: 16 U.S.C. 1801 et seq.)

Dated: October 27, 2021.
Tracey L. Thompson,
Acting Deputy Director, Office of Sustainable Fisheries, National Marine Fisheries Service.

[FR Doc. 2021-23753 Filed 10-29-21; 8:45 am]

BILLING CODE 3510-22-P